ARCHITECTURAL AND TRANSPORTATION BARRIERS COMPLIANCE BOARD

36 CFR Part 1192

[Docket No. ATBCB-2013-0001]

RIN 3014-AA42

Rail Vehicles Access Advisory Committee

AGENCY: Architectural and Transportation Barriers Compliance Board.

ACTION: Notice of advisory committee meeting.

SUMMARY: On May 23, 2013, we, the Architectural and Transportation Barriers Compliance Board (Access Board), established the Rail Vehicles Access Advisory Committee (Committee) to advise us on revising and updating our accessibility guidelines issued pursuant to the Americans with Disabilities Act for transportation vehicles that operate on fixed guideway systems (e.g., rapid rail, light rail, commuter rail, intercity rail, and high speed rail). The Committee will hold its fifth meeting on the following dates and times.

DATES: The Committee will meet on February 26, 2015, from 10:00 a.m. to 5:00 p.m. and on February 27, 2015, from 9:30 a.m. to 3:00 p.m.

ADDRESSES: The meeting will be held at the Access Board Conference Room, 1331 F Street NW., Suite 800, Washington, DC 20004-1111. Call-in information and a communication access real-time translation (CART) web streaming link will be posted on the Access Board's Rail Vehicles Access Advisory Committee Web site page at www.access-board.gov/rvaac.

FOR FURTHER INFORMATION CONTACT: Paul Beatty, Office of Technical and Information Services, Access Board, 1331 F Street NW., Suite 1000, Washington, DC 20004-1111. Telephone number (202) 272-0012 (Voice); (202) 272-0072 (TTY). Electronic mail address: rvaac@access-board.gov.

SUPPLEMENTARY INFORMATION: On May 23, 2013, we published a notice announcing that we were establishing a Rail Vehicles Access Advisory Committee (Committee) to make recommendations to us on matters associated with revising and updating our accessibility guidelines issued pursuant to the Americans with Disabilities Act for transportation vehicles that operate on fixed guideway systems (e.g., rapid rail, light rail, commuter rail, intercity rail, and high speed rail). See 78 FR 30828 (May 23, 2013).

The Committee will hold its fifth meeting on February 26, 2015, from 10:00 a.m. to 5:00 p.m. and on February 27, 2015, from 9:30 a.m. to 3:00 p.m. The preliminary agenda for the February meeting includes: Deliberation of committee member concerns pertaining to the accessibility of rail vehicles; consideration of process-related matters; and possible subcommittee meetings. Subcommittee meetings will occur in the same meeting room as the Committee meeting. The preliminary meeting agenda, along with information about the Committee, is available on our Web site (www.access-board.gov/rvaac).

The Committee meeting and subcommittee meetings will be open to the public and interested persons can attend the meetings and communicate their views. Members of the public will have opportunities to address the Committee on issues of interest to them during a public comment period scheduled each day the full committee meets. Members of groups or individuals who are not members of the Committee also have the opportunity to participate in subcommittees.

The meetings will be accessible to persons with disabilities. An assistive listening system, communication access real-time translation (CART), and sign language interpreters will be provided. Persons attending the meetings are requested to refrain from using perfume, cologne, and other fragrances for the comfort of other participants (see www.access-board.gov/the-board/policies/fragrance-free-environment for more information).

Persons wishing to provide handouts or other written information to the Committee are requested to provide electronic formats to Paul Beatty via email at least five business days prior to the meetings so that alternate formats can be distributed to Committee members.

David M. Capozzi,
Executive Director.

[FR Doc. 2015-02888 Filed 2-11-15; 8:45 am]

BILLING CODE 8150-01-P